SOCIAL SECURITY ADMINISTRATION

President's Commission To Strengthen Social Security

AGENCY: Social Security Administration (SSA).

ACTION: Announcement of meeting.

DATES: July 24, 2001 10 a.m.-4 p.m.

ADDRESSES: Presidential Ballroom, Capitol Hilton, 1001 16th Street, NW., Washington, DC 20036, (202) 393-1000.

SUPPLEMENTARY INFORMATION: Type of meeting: The meeting will be open to the public between 10 a.m. and 4 p.m., with a break for lunch between Noon and 1 p.m.

Purpose: This is the second deliberative meeting of the Commission. No public testimony will be heard at this meeting. However, interested parties are invited to attend the meeting.

Agenda: The Commission will meet commencing Tuesday, July 24, at 10 a.m. The meeting will take place between 10 a.m. and 4 p.m., with a break for lunch between Noon and 1 p.m. During the meeting, the Commission will discuss its Interim Report.

Records are being kept of all Commission proceedings and will be available for public inspection at the Commission's office at the address below. Documents such as meeting announcements, agendas, minutes, and Commission reports will be available on the Commission's web page. Anyone requiring information regarding the Commission should contact Commission staff by:

• Internet at http://www.CSSS.gov;

• Mail addressed to President's Commission to Strengthen Social Security, 734 Jackson Place, NW., Washington, DC 20503;

• Telephone at (202) 343-1255;

• Email to Comments@CSSS.gov.

Dated: July 6, 2001.
Michael A. Anzick,
Designated Federal Officer.

[FR Doc. 01-17492 Filed 7-11-01; 8:45 am]

BILLING CODE 4191-02-U